DEPARTMENT OF AGRICULTURE

Forest Service

White River National Forest; Eagle County, CO; Camp Hale Restoration and Enhancement Project EIS

AGENCY: Forest Service, USDA.

ACTION: Notice of intent to prepare an environmental impact statement.

SUMMARY: The Camp Hale-Eagle River Headwaters Collaborative Group recently submitted a proposal to the White River National Forest (WRNF) for restorative and enhancement activities in the Camp Hale area. The WRNF is initiating a National Environmental Policy Act (NEPA) analysis to document and disclose potential impacts. The Proposed Action—the Camp Hale Restoration and Enhancement Project—is built on the recommendations from the collaborative group to restore ecosystems, enhance recreation opportunities, protect historic values, and preserve existing valid permits and rights.

DATES: Comments concerning the scope of the analysis must be received by April 30, 2015. The draft environmental impact statement is expected to be available for public review in August 2015 and the final environmental impact statement is expected in the spring of 2016.

ADDRESSES: Send written comments to Scott Fitzwilliams, Forest Supervisor, c/o Matt Grove, East Zone Fisheries Biologist, White River National Forest, P.O. Box 190, Minturn, CO 81645. Comments may also be sent via email to https://cara.ecosystem-management.org/Public//CommentInput?Project=46121 (include “Camp Hale Restoration and Enhancement Project EIS” in the subject line), or via facsimile to (970) 827-5715.

FOR FURTHER INFORMATION CONTACT: Additional information related to the project can be obtained from the project Web page: http://www.fs.fed.us/nepa/fs-usda-pop.php/?project=46121: & Matt Grove, East Zone Fisheries Biologist, Eagle/Holy Cross Ranger District, 24747 U.S. Hwy 24, P.O. Box 190, Minturn, Colorado 81645. Mr. Grove can be reached by phone at (970) 827-5166 or by email at magrove@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action: The purpose of action is to improve aquatic, riparian, and wetland conditions in and along the Eagle River and its tributaries, maintain or improve recreation opportunities and facilities, and conserve historic values in the Camp Hale area, while preserving existing valid rights and permits.

The need for action is driven by historic and ongoing impairment of stream health, riparian condition and hydrologic function in the upper Eagle River and its tributaries. Current recreational infrastructure and facilities are quickly becoming outdated and overused. Recreational sites throughout the project area are in various states of deterioration and/or are entirely lacking. The project would focus on repairing and enhancing existing infrastructure thereby improving the overall experience at these sites. There is a commitment at the same time to retain features that reflect historic values of the Camp Hale area.

Proposed Action: To address the purpose of and need for action specific project components would:

• Create and/or enhance up to 340 acres of wetland habitat and increase sinuosity up to 6 miles collectively in the South Fork, East Fork, and main stem Eagle River.

• Create an inset floodplain located approximately in the 1939 stream alignment; increase sinuosity and reconnect the upper Eagle River and its tributaries within this floodplain or wetlands connected to this floodplain.

• Create inset wetlands that are outside or adjacent to the floodplain but connected by hydrologic function.

• Modify the travel system to maintain recreation access and accommodate restoration activities. Install open arch structures or bridges where designated roads or trails cross the restored stream alignment. Modification to the travel system could result in closing road segments that are now open to public access, and opening segments of road currently closed to public access.

• Improve access at Camp Hale Memorial Campground, and improve deteriorating infrastructure at Camp Hale Memorial and Camp Hale Group Campground.

• Improve recreational infrastructure including: Access across the Eagle River for cross country skiing, designated dispersed camping, improved parking areas, and trailhead access improvements.

• Improve terrestrial habitat through the removal of noxious weeds, reintroduction of native vegetation, and incorporating soil amendments to create a better growing environment for native plants.

• Retain identified historically significant remnant structures such as the fixed-distance rifle range, field house, warehouse area, pasture barn, core service command, climbing wall, and portions of the straightened stream channel outside the constructed inset floodplain. The main river would not continue to directly flow through the retained portion of the straightened channel.

• Dispose of excavated fill material from the restored stream channel and wetlands into identified borrow sites in the vicinity or haul to an offsite location.

• Amend the Forest Plan to provide long term protection for restored or enhanced wetlands.

Responsible Official: The Responsible Official is Scott Fitzwilliams, Forest Supervisor for the WRNF.

Nature of Decision To Be Made: Based on the analysis that will be documented in the forthcoming EIS, the Responsible Official will decide whether or not to implement, in whole or in part, the Proposed Action or another alternative that may be developed by the Forest Service as a result of scoping.

Scoping Process: This notice of intent initiates the scoping process, which guides the development of the environmental impact statement. The Forest Service is soliciting comments from Federal, State and local agencies and other individuals or organizations that may be interested in or affected by implementation of the proposed project. Public questions and comments regarding this proposal are an integral part of this environmental analysis process. Input provided by interested and/or affected individuals, organizations and governmental agencies will be used to identify alternative actions and resource issues that will be analyzed in the environmental impact statement. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however. Those who submit comments will have eligibility to file an objection under 36 CFR 219.32 because the decision includes a forest plan amendment. There will be an additional opportunity to comment when the Notice of Availability of the Draft EIS is published in the Federal Register. For objection eligibility, each individual or representative from each entity submitting written comments must either sign the comment or verify identity upon request. Individuals and organizations wishing to be eligible to object must meet the information requirements in 36 CFR 219.32.

Dated: March 4, 2015.
Scott G. Fitzwilliams,
Forest Supervisor, White River National Forest.

[FR Doc. 2015-05895 Filed 3-13-15; 8:45 am]

BILLING CODE 3410-11-P